DEPARTMENT OF HEALTH AND HUMAN SERVICES

Centers for Medicare & Medicaid Services

42 CFR Parts 411, 412, 413, 422, and 489

[CMS-1390-CN2; CMS-1531-CN; CMS-1385-CN2]

RIN 0938-AP15; RIN 0938-AO35; RIN 0938-AO65

Medicare Program; Changes to the Hospital Inpatient Prospective Payment Systems and Fiscal Year 2009 Rates; Payments for Graduate Medical Education in Certain Emergency Situations; Changes to Disclosure of Physician Ownership in Hospitals and Physician Self-Referral Rules; Updates to the Long-Term Care Prospective Payment System; Updates to Certain IPPS-Excluded Hospitals; and Collection of Information Regarding Financial Relationships Between Hospitals; Correction

AGENCY: Centers for Medicare & Medicaid Services (CMS), HHS.

ACTION: Correction of final rules.

SUMMARY: This document corrects errors that appeared in the correction notice published in the October 3, 2008 Federal Register entitled “Medicare Program; Changes to the Hospital Inpatient Prospective Payment Systems and Fiscal Year 2009 Rates; Payments for Graduate Medical Education in Certain Emergency Situations; Changes to Disclosure of Physician Ownership in Hospitals and Physician Self-Referral Rules; Updates to the Long-Term Care Prospective Payment System; Updates to Certain IPPS-Excluded Hospitals; and Collection of Information Regarding Financial Relationships Between Hospitals; Correction.”

DATES: Effective Date: This notice is effective December 30, 2008.

Applicability Date: This correction notice is applicable to discharges occurring on or after October 1, 2008.

FOR FURTHER INFORMATION CONTACT: Tzvi Hefter (410) 786-4487.

SUPPLEMENTARY INFORMATION:

I. Background

In FR Doc. E8-23082 of October 3, 2008 (73 FR 57541), the correction notice entitled “Medicare Program; Changes to the Hospital Inpatient Prospective Payment Systems and Fiscal Year 2009 Rates; Payments for Graduate Medical Education in Certain Emergency Situations; Changes to Disclosure of Physician Ownership in Hospitals and Physician Self-Referral Rules; Updates to the Long-Term Care Prospective Payment System; Updates to Certain IPPS-Excluded Hospitals; and Collection of Information Regarding Financial Relationships Between Hospitals; Correction” there were inadvertent errors that are identified and corrected in the Correction of Errors section of this correction notice.

On page 57543, there were errors in Tables 2 and 3B. In Table 2, for provider number 300005, we made a typographical error and included erroneous average hourly wage data for this provider. Therefore, in section II. of this correction notice, we have corrected the FY 2009 and 3-year average hourly wage data for this provider. In Table 3B, for the nonurban area of New Hampshire (CBSA 30), we inadvertently neglected to include the corrected average hourly wage data and instead included the average hourly wage data from the FY 2009 inpatient prospective payment systems (IPPS) final rule (73 FR 48881). Therefore, in section II. of this correction notice, we have corrected the FY 2009 and 3-year average hourly wage data for this nonurban area. We note the corrections presented in this notice would subsequently correct the average hourly wage data errors in Tables 2 and 3B of the FY 2009 inpatient prospective payment systems (IPPS) final rule. We also note that the FY 2009 final rates published in the October 3, 2008 Federal Register (73 FR 57888) reflected the correct average hourly wage data for provider number 30005 and the nonurban area of New Hampshire (CBSA code 30); therefore the payment rates associated with this data are not being corrected.

II. Correction of Errors

In FR Doc. E8-23082 of October 3, 2008 (73 FR 57541), make the following corrections:

1. On page 57543,

a. Bottom of the second column and the top of the third column, last and first partial paragraphs, item 1, in Table 2.—Hospital Case-Mix Indexes for Discharges Occurring in Federal Fiscal Year 2007; Hospital Wage Indexes for Federal Fiscal Year 2009; Hospital Average Hourly Wages for Federal Fiscal Years 2007 (2003 Wage Data), 2008 (2004 Wage Data), and 2009 (2005 Wage Data); and 3-Year Average of Hospital Average Hourly Wages, the FY 2009 average hourly wage and the 3-year average hourly wage for provider number 300005 are corrected to read as follows:

Provider No. | Average hourly wage FY 2009¹ | Average hourly wage** (3 years)
300005 | 28.8402 | 28.1813

b. Third column, first paragraph, item 2, Table 3B.—FY 2009 and 3-Year* Average Hourly Wage for Rural Areas by CBSA, the FY 2009 Average Hourly Wage and 3-Year Average Hourly wage for the CBSA Code 30 are corrected to read as follows:

CBSA code | Nonurban area | FY 2009 average hourly wage | 3-Year average hourly wage
30 | New Hampshire | 33.2602 | 32.8266

III. Waiver of Proposed Rulemaking and Delay in Effective Date

We do not consider this correction notice to constitute a rule under 5 U.S.C. 553(b). The notice corrects average hourly wage data based upon policies already adopted in the FY 2009 IPPS final rule. Nevertheless, even if this correction notice could be viewed as substantive rule for which a notice of proposed rulemaking and delayed effective date were necessary under sections 553(b) and 553(d) of the Administrative Procedure Act (APA) (5 U.S.C. 553(b) and 553(d)), we can waive this notice and comment procedure and delay in effective date if the Secretary finds, for good cause, that such procedures are impracticable, unnecessary, or contrary to the public interest, and incorporates a statement of the finding and the reasons therefore in the notice.

Section 553(d) of the APA ordinarily requires a 30-day delay in effective date of final rules after the date of their publication in the Federal Register. This 30-day delay in effective date can be waived, however, if an agency finds for good cause that the delay is impracticable, unnecessary, or contrary to the public interest, and the agency incorporates a statement of the findings and its reasons in the rule issued. Therefore, we are waiving proposed rulemaking and the 30-day delayed effective date for the technical corrections in this notice. This notice merely corrects typographical errors in entries of two tables of the addendum of the FY 2009 IPPS final rule and does not make substantive changes to the policies or payment methodologies that were adopted in the final rule. In addition, this notice contains corrections to the average hourly wage data published in the October 3, 2008 Federal Register and does not make any changes to the final FY 2009 payment rates. As a result, this notice is intended to ensure that the FY 2009 IPPS final rule accurately reflects the policies adopted in the final rule. Therefore, we find that undertaking further notice and comment procedures to incorporate these corrections into the final rule or delaying the effective date of these changes is unnecessary and contrary to the public interest.

(Catalog of Federal Domestic Assistance Program No. 93.773, Medicare—Hospital Insurance; and Program No. 93.774, Medicare—Supplementary Medical Insurance Program)

Dated: December 22, 2008.
Ann C. Agnew,
Executive Secretary to the Department.

[FR Doc. E8-31013 Filed 12-29-08; 8:45 am]

BILLING CODE 4120-01-P